ENVIRONMENTAL PROTECTION AGENCY

[ER-FRL-6624-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the OFFICE OF FEDERAL ACTIVITIES at (202) 564-7167.

An explanation of the ratings assigned to draft environmental impact statements (EISs) was published in FR dated May 18, 2001 (66 FR 27647).

Draft EISs

ERP No. D-AFS-K65236-AZ Rating LO, Buck Springs Range Allotment Rangeland Management, Implementation, Blue Ridge Coconino National Forest, Coconino County, AZ.

Summary: EPA supports the dual objectives of providing grazing land and protecting sensitive habitat analyzed in the Buck Springs Range Allotment DEIS. EPA has no objections to the proposed project.

ERP No. D-AFS-L65390-ID Rating EO2, Garnet Stars and Sands Project, To Test and Develop Future Recreation, Garnet, Idaho Panhandle National Forests, St. Joe Ranger District, Latah, Shoshone and Benewah Counties, ID.

Summary: EPA had environmental objections because the proposed project would likely worsen already impaired water quality and degrade habitat for listed and sensitive fish species and riparian areas. EPA recommended that the final EIS contain sufficient mitigation measures to conserve aquatic resources consistent with section 313 of the Clean Water Act, section 7(a)(1) of the Endangered Species Act and the Forest Plan, utilize the Forest Service's Protocol for 303(d) Waters and include a comprehensive monitoring plan specifically tied to the project.

ERP No. D-APH-A65169-00 Rating EC2, Programmatic—EIS Rangeland Grasshopper and Mormon Cricket Suppression Program, Authorization, Funding and Implementation in 17 Western States, AZ, CA, CO, ID, KS, MT, NB, NV, NM, ND, OK, OR, SD, TX, UT, WA and WY.

Summary: EPA expressed environmental concerns since the draft EIS did not fully identify a proposed action nor fully analyze a reasonable range of alternatives. EPA requested that additional information and analyses be available in the final EIS.

ERP No. D-BLM-K65235-AZ Rating LO, Las Cienegas Resource Management Plan, Implementation, Las Cienegas National Conservation Area (NCA) and Sonoita Valley Acquisition Planning District, AZ.

Summary: EPA expressed a lack of environmental objections to the proposed project. ERP No. D-FHW-F40398-IN Rating EO2, Indianapolis Northeast Corridor Transportation Connections Study, To Identify Actions to Reduce Expected Year 2025 Traffic Congestion and Enhance Mobility, Between I-69: from I-465 to IN-328; I-465: from US 31 to I-70; I-70: from I-65 to I-465: IN-37 from I-69 to Allisonville Road (Noblesville), Marion and Hamilton Counties, IN.

Summary: EPA expressed objections to and requested additional information regarding: Alternatives, noise, air quality, wetlands, threatened and endangered species habitat, water quality/storm water management, flood plains and mitigation.

ERP No. D-NOA-K36136-CA Rating EC2, Goat Canyon Enhancement Project, Implementation, Tijuana River Estuary, City and County of San Diego, CA.

Summary: EPA expressed environmental concerns regarding impacts to water quality, cumulative impacts and the objectives for improvements to Monument Road and the trail system. EPA requested that additional information be provided to address EPA's concerns on these issues.

ERP No. DS-COE-E39054-FL Rating LO, Cape Sable Seaside Sparrow Protection, Interim Operating Plan (IOP), Updated Information on a New Alternative 7 for Emergency Sparrow Protection Actions, Implementation, Everglades National Park, Miami-Dade County, FL.

Summary: EPA had no objection to the proposed action since Alternative 7 appears to address our previous water quality concerns, but still provides adequate protection to the Cape Sable Seaside Sparrow.

Final EISs

ERP No. F-AFS-L65232-OR, Deep Vegetation Management Project, Implementation, Ochoco National Forest, Paulina Ranger District, Crook and Wheeler Counties, OR.

Summary: The final EIS adequately discloses the impacts and satisfactorily responded to most of EPA's previous comments on the draft EIS. In addition, the project overall should benefit the landscape. Therefore, EPA has no objection to the action as proposed.

ERP No. F-DOE-E09807-TN Programmatic EIS—Oak Ridge Y-12 Plant Mission, Processing and Storage of Highly Enriched Uranium, U.S. Nuclear Weapons Stockpile, Anderson County, TN.

Summary: EPA continues to have environmental concerns about construction impacts of the project.

Dated: December 4, 2001.
Joseph C. Montgomery,
Director, NEPA Compliance Division, Office of Federal Activities.

[FR Doc. 01-30381 Filed 12-6-01; 8:45 am]

BILLING CODE 6560-50-U